INTERNATIONAL TRADE COMMISSION

[Investigation No. 731-TA-747 (Final)]

Fresh Tomatoes From Mexico

AGENCY: United States International Trade Commission.

ACTION: Suspension of investigation.

SUMMARY: On December 16, 2002, the Department of Commerce published notice in the Federal Register of the suspension of its antidumping investigation on fresh tomatoes from Mexico (67 FR 77044). The basis for the suspension is an agreement between Commerce and producers/exporters which account for substantially all imports of this product from Mexico, wherein each signatory producer/exporter agreed to revise its prices to eliminate completely the injurious effects of exports of this merchandise to the United States. Accordingly, the U.S. International Trade Commission gives notice of the suspension of its antidumping investigation involving imports from Mexico of fresh tomatoes, provided for in subheadings 0702.00 and 9906.07.01 through 9906.07.09 of the Harmonized Tariff Schedule of the United States.

EFFECTIVE DATE: December 16, 2002.

FOR FURTHER INFORMATION CONTACT: Elizabeth Haines ((202) 205-3200), Office of Investigations, U.S. International Trade Commission, 500 E Street SW., Washington, DC 20436. Hearing-impaired individuals are advised that information on this matter can be obtained by contacting the Commission's TDD terminal on (202) 205-1810. Persons with mobility impairments who will need special assistance in gaining access to the Commission should contact the Office of the Secretary at (202) 205-2000. General information concerning the Commission may also be obtained by accessing its internet server (http://www.usitc.gov). The public record for this investigation may be viewed on the Commission's electronic docket (EDIS-ON-LINE) at http://dockets.usitc.gov/eol/public.

Authority: This investigation is being suspended under authority of title VII of the Tariff Act of 1930; this notice is published pursuant to section 207.40 of the Commission's rules (19 CFR 207.40).

By order of the Commission.
Issued: December 19, 2002.
Marilyn R. Abbott,
Secretary to the Commission.

[FR Doc. 02-32475 Filed 12-24-02; 8:45 am]

BILLING CODE 7020-02-P